DEPARTMENT OF ENERGY

Federal Energy Regulatory Commission

[Docket No. EC01-51-000, et al.]

Xcel Energy Services, Inc., et al.; Electric Rate and Corporate Regulation Filings

July 26, 2001.

Take notice that the following filings have been made with the Commission:

1. Xcel Energy Services, Inc.

[Docket No. EC01-51-000]

Take notice that on June 21, 2001, Excel Energy Services, Inc. tendered for filing a notice of withdrawal the application it filed December 29, 2000 in Docket No. EC01-51-000.

Comment date: August 10, 2001, in accordance with Standard Paragraph E at the end of this notice.

2. Allegheny Energy Supply, Lincoln Generating Facility, LLC

[Docket No. ER01-2066-001]

Take notice that on July 24, 2001, Allegheny Energy Service Corporation on behalf of Allegheny Energy Supply Lincoln Generating Facility, LLC (Lincoln) filed revisions to its Market Rate Tariff in compliance with the Commission's Order of July 13, 2001 at Docket No. ER00-2066-000. Copies of the filing have been provided to the Public Utilities Commission of Ohio, the Pennsylvania Public Utility Commission, the Maryland Public Service Commission, the Virginia State Corporation Commission and the West Virginia Public Service Commission.

Comment date: August 14, 2001, in accordance with Standard Paragraph E at the end of this notice.

3. Allegheny Energy Supply, Gleason Generating Facility, LLC

[Docket No. ER01-2067-001]

Take notice that on July 24, 2001, Allegheny Energy Service Corporation on behalf of Allegheny Energy Supply Gleason Generating Facility, LLC (Gleason) filed revisions to its Market Rate Tariff in compliance with the Commission's Order of July 13, 2001, at Docket No. ER00-2066-000.

Copies of the filing have been provided to the Public Utilities Commission of Ohio, the Pennsylvania Public Utility Commission, the Maryland Public Service Commission, the Virginia State Corporation Commission and the West Virginia Public Service Commission.

Comment date: August 14, 2001, in accordance with Standard Paragraph E at the end of this notice.

4. Allegheny Energy Supply, Wheatland Generating Facility, LLC

[Docket No. ER01-2068-001]

Take notice that on July 24, 2001, Allegheny Energy Service Corporation on behalf of Allegheny Energy Supply Wheatland Generating Facility, LLC (Wheatland) filed revisions to its Market Rate Tariff in compliance with the Commission's Order of July 13, 2001 at Docket No. ER00-2066-000.

Copies of the filing have been provided to the Public Utilities Commission of Ohio, the Pennsylvania Public Utility Commission, the Maryland Public Service Commission, the Virginia State Corporation Commission and the West Virginia Public Service Commission.

Comment date: August 14, 2001, in accordance with Standard Paragraph E at the end of this notice.

5. Arizona Public Service Company

[Docket No. ER01-2555-000]

Take notice that on July 10, 2001, Arizona Public Service Company (APS) tendered for filing a revised Contract Demand Exhibit 1 applicable under the APS-FERC Rate Schedule No. 192 between APS and the City of Williams (Williams) for the operating year 2002.

Copies of this filing have been served on the City of Williams, and the Arizona Corporation Commission.

Comment date: August 13, 2001, in accordance with Standard Paragraph E at the end of this notice.

6. Combined Locks Energy Center, LLC

[Docket No. ER01-2659-000]

Take notice that on July 23, 2001, Combined Locks Energy Center, LLC (CLEC) filed an application for market-based rate authority pursuant to Section 205 of the Federal Power Act. The application includes a market-based rate tariff, a form of umbrella service agreement and a code of conduct (the Tariff). CLEC requests that its Tariff become effective on September 22, 2001, sixty days after the date of this filing.

CLEC has served this filing on the Public Service Commission of Wisconsin.

Comment date: August 13, 2001, in accordance with Standard Paragraph E at the end of this notice.

7. Cinergy Services, Inc.

[Docket No. ER01-2660-000]

Take notice that on July 23, 2001, Cinergy Services, Inc. (Provider) tendered for filing a Non-Firm Point-To-Point Service Agreement under Cinergy's Open Access Transmission Service Tariff (OATT) entered into between Cinergy and Capline Energy Services, L.P. (Customer).

Provider and Customer are requesting an effective date of June 25, 2001.

Comment date: August 13, 2001, in accordance with Standard Paragraph E at the end of this notice.

8. Cinergy Services, Inc.

[Docket No. ER01-2661-000]

Take notice that Cinergy Services, Inc. (Cinergy) and Exelon Generation Company, LLC (ExGen), on July 23, 2001, are requesting via a Notice of Assignment that ExGen will replace PECO Energy Corporation of Cinergy's Market-Based Power Sales Tariff Original Volume No. 7-MB, Service Agreement No. 88, dated October 29, 1997.

Cinergy and ExGen are requesting an effective date of one day after filing.

Comment date: August 13, 2001, in accordance with Standard Paragraph E at the end of this notice.

9. Cinergy Services, Inc.

[Docket No. ER01-2662-000]

Take notice that on July 23, 2001, Cinergy Services, Inc. (Cinergy) tendered for filing a Market-Based Service Agreement under Cinergy's Market-Based Power Sales Standard Tariff-MB (the Tariff) entered into between Cinergy and Energy USA—TPC Corp. (Energy USA).

Cinergy and Energy USA are requesting an effective date of June 22, 2001.

Comment date: August 13, 2001, in accordance with Standard Paragraph E at the end of this notice.

10. Cinergy Services, Inc.

[Docket No. ER01-2663-000]

Take notice that on July 23, 2001, Cinergy Services, Inc. (Provider) tendered for filing a Firm Point-To-Point Service Agreement under Cinergy's Open Access Transmission Service Tariff (OATT) entered into between Provider and Capline Energy Services, L.P. (Customer).

Provider and Customer are requesting an effective date of June 25, 2001.

Comment date: August 13, 2001, in accordance with Standard Paragraph E at the end of this notice.

11. Tampa Electric Company

[Docket No. ER01-2664-000]

Take notice that on July 24, 2001, Tampa Electric Company (Tampa Electric) tendered for filing a service agreement with Duke Energy Trading and Marketing, L.L.C. (Duke Energy) for non-firm point-to-point transmission service under Tampa Electric's open access transmission tariff. Copies of the filing have been served on Duke Energy and the Florida Public Service Commission.

Tampa Electric proposes an effective date of July 20, 2001, for the tendered service agreement, and therefore requests waiver of the Commission's notice requirement.

Comment date: August 14, 2001, in accordance with Standard Paragraph E at the end of this notice.

12. New England Power Pool

[Docket No. ER01-2665-000]

Take notice that on July 24, 2001, the New England Power Pool (NEPOOL) Participants Committee filed for acceptance materials to permit NEPOOL to expand its membership to include EmPower Energy, LLC (EmPower). The Participants Committee requests an effective date of August 1, 2001 for commencement of participation in NEPOOL by EmPower.

The Participants Committee states that copies of these materials were sent to the New England state governors and regulatory commissions and the Participants in NEPOOL.

Comment date: August 14, 2001, in accordance with Standard Paragraph E at the end of this notice.

13. Wisconsin Electric Power Company

[Docket No. ER01-2666-000]

Notice is hereby given that effective April 1, 2001, Service Agreement No. 17, effective July 26, 1997 under Wisconsin Electric Power Company's Coordination Sales Tariff, FERC Electric Tariff Second Revised Volume No. 2 has been canceled as requested by the customer Michigan Electric Coordinated Systems (MECS).

Copies of the filing have been served on MECS, Michigan Public Service Commission, and the Public Service Commission of Wisconsin.

Comment date: August 14, 2001, in accordance with Standard Paragraph E at the end of this notice.

14. WPS Resources Operating Companies

[Docket No. ER01-2667-000]

Take notice that on July 24, 2001, WPS Resources Operating Companies (WPSR) filed a Notice of Cancellation for a firm point-to-point transmission service agreement with WE Power Marketing (WE Power) under its open access transmission tariff. WPSR seeks to cancel this service agreement because under Wisconsin's electricity restructuring, the American Transmission Company, LLC (ATCLLC) will provide transmission service to this customer. WPSR requests that this cancellation take effect June 29, 2001 or on a later date approved by the Commission. To the extent necessary, the WPSR requests waiver of the Commission's notice of filing requirements.

Copies of the filing were served upon WE Power, ATCLLC, the Michigan Public Service Commission and the Public Service Commission of Wisconsin.

Comment date: August 14, 2001, in accordance with Standard Paragraph E at the end of this notice.

15. American Electric Power Company, Inc.

[Docket No. ER01-2668-000]

Take notice that on July 24, 2001, American Electric Power Company, Inc. (AEP), on behalf of itself, the AEP Operating Companies, American Electric Power Service Corporation, AEP Generating Company, and certain new subsidiaries of AEP, tendered for approval, pursuant to Section 205 of the Federal Power Act, initial and amended rate schedules in connection with its corporate restructuring plan in compliance with the restructuring programs in Ohio and Texas to facilitate the introduction of retail competition in those two states on January 1, 2002.

Copies of this filing have been provided to the retail regulators of the AEP Operating Companies and various individuals and organizations, including AEP's wholesale customers.

Comment date: August 14, 2001, in accordance with Standard Paragraph E at the end of this notice.

16. MDU Resources Group, Inc.

[Docket No. ES01-39-000]

Take notice that on July, 19, 2001, MDU Resources Group, Inc. (MDU Resources) submitted an application pursuant to section 204 of the Federal Power Act seeking authorization to issue no more than 2,600,000 shares of common stock in connection with MDU Resources' 401(k) Retirement Plan.

MDU resources also requests a waiver of the Commission's competitive bidding requirements and negotiated placement requirements at 18 CFR 34.2.

Comment date: August 16, 2001, in accordance with Standard Paragraph E at the end of this notice.

17. Golden Spread Electric Cooperative, Inc.

[Docket No. ES01-40-000]

Take notice that on July 23, 2001, Golden Spread Electric Cooperative (Golden Spread) submitted an application, pursuant to Section 204 of the Federal Power Act and Part 34 of the Federal Energy Regulatory Commission's Regulations, for blanket approval for future issuances of securities and assumptions of liabilities. Golden Spread has requested an effective date of August 20, 2001.

Comment date: August 16, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19268 Filed 8-1-01; 8:45 am]

BILLING CODE 6717-01-P